FEDERAL COMMUNICATIONS COMMISSION

[Report No. AUC-05-60-B; DA 05-737]

Auction of Lower 700 MHz Band Licenses Scheduled for July 20, 2005; Notice and Filing Requirements, Minimum Opening Bids, Upfront Payments and Other Auction Procedures

AGENCY: Federal Communications Commission.

ACTION: Notice; correction.

SUMMARY: The Federal Communications Commission published a document in the Federal Register of May 12, 2005, concerning the Auction of Low Power Television Construction Permits and the Procedures. The document contained incorrect data concerning the calculation formula for minimum opening bids for Auction No. 60.

FOR FURTHER INFORMATION CONTACT: Auctions and Spectrum Access Division, Wireless Telecommunications Bureau: Howard Davenport at (202) 418-0660.

Correction

In the Federal Register of May 12, 2005, in FR Doc. 05-9537 on page 25056, in the second column, paragraph 104, correct the text to read as follows:

In the Auction No. 60 Comment Public Notice, the Bureau proposed to establish minimum opening bids for Auction No. 60 and to retain discretion to lower the minimum opening bids. Specifically, for Auction No. 60, the Bureau proposed the following license-by-license basis using a formula based on bandwidth and license area population:

$0.01 * MHz * License Area Population with a minimum of $1,000 per license.

Federal Communications Commission.
Gary D. Michaels,
Deputy Chief, Auction Spectrum and Access Division, WTB.

[FR Doc. 05-12320 Filed 6-21-05; 8:45 am]

BILLING CODE 6712-01-P